NUCLEAR REGULATORY COMMISSION

Staff Meetings Open to the Public: Proposed Policy Statement

AGENCY: Nuclear Regulatory Commission.

ACTION: Proposed policy statement.

SUMMARY: The Nuclear Regulatory Commission (NRC) proposes to revise Section D of its current policy statement that NRC staff follows in opening to public observation meetings between the NRC staff and one or more outside persons. The NRC proposes to announce via the Internet from the NRC Web site at http://www.nrc.gov, its staff meetings that will be open to the public. The NRC proposes to discontinue announcing public staff meetings, meeting changes, and cancellations through its public meeting notice system provided by NRC's electronic bulletin board and a telephone recording, and through the Weekly Compilation of Press Releases and posting in the NRC's Public Document Room (PDR). The policy would also be amended to state that staff meetings will be announced as soon as the staff is certain that a meeting will be held and firm arrangements have been made, but generally no fewer than 10 calendar days before the meeting. Also, the policy would be amended to eliminate the current practice of only posting meetings scheduled within 60 days.

The Commission will not finalize revisions to the Policy Statement or discontinue its current methods of informing the public of open staff meetings until public comments have been received and evaluated as to whether changes in the proposed course are warranted.

DATES: Submit comments by March 27, 2000. Comments received after this date will be considered if it is practical to do so, but the Commission is only able to guarantee its consideration of comments received on or before this date.

ADDRESSES: Send comments to: Secretary, U.S. Nuclear Regulatory Commission, Washington, DC 20555-0001. ATTN: Rulemakings and Adjudications Staff.

Hand deliver comments to: 11555 Rockville Pike, Rockville, Maryland, between 7:30 a.m. and 4:15 p.m., on Federal workdays.

Examine comments received at the NRC Public Document Room, 2120 L Street NW. (Lower level), Washington, D.C.

A copy of NRC's current Policy Statement on Staff Meetings Open to the Public and this proposed revision to the policy statement are available at the NRC's rulemaking Web site at http://ruleforum.llnl.gov. This site also enables you to submit comments on the proposed policy statement. Comments may be uploaded as files (any format), if your Web browser supports that function. For information about the interactive rulemaking Web site, contact Ms. Carol Gallagher, 301-415-5905; email: cag@nrc.gov.

FOR FURTHER INFORMATION CONTACT: John Craig, Office of the Executive Director for Operations, U.S. Nuclear Regulatory Commission, Washington, DC 20555-0001, Telephone: 301-415-8703: email: jwc1@nrc.gov.

SUPPLEMENTARY INFORMATION:

I. Background

The NRC first published its policy on open staff meetings in the Federal Register on June 28, 1978 (43 FR 28058). Subsequently, the NRC published a new Policy Statement on Staff Meetings Open to the Public in the Federal Register on September 20, 1994 (59 FR 48340). Section D of that policy statement implemented an electronic bulletin board and a telephone recording as the primary mechanisms for announcing staff meetings open to the public.

II. Proposed Change to the Policy Statement

The proposed change would revise Section D to state that staff meetings open to the public will be announced via the Internet from the NRC Web site, (http://www.nrc.gov). In 1997, the NRC began to announce staff meetings open to the public on the NRC Web site, in addition to the two mechanisms indicated in Section D. The public is provided access to the NRC Web site in the NRC Public Document Room, and may access it from personal computers as well. The NRC staff studied the use of the Electronic Bulletin Board and telephone recordings of the Public Meeting Notice System and compared this use with the same information provided via the Internet. The Bulletin Board averaged 33 calls per month and the telephone recording averaged 49 calls per month, as compared to 1,465 views per month of this information on the Internet. It has become apparent that with the increasing use of the Internet to obtain information, the NRC Web site is the primary mechanism by which the public accesses announcements of NRC staff meetings open to the public. Additionally, the study revealed that the public does not rely on the telephone recording to determine if meetings have been changed or canceled. The public usually contacts the NRC staff person listed in each meeting announcement, or accesses the NRC Web site to determine if there is a change in the schedule or location of a meeting. Consequently, the Commission has determined that the Electronic Bulletin Board and the telephone recording are not used sufficiently to merit continuation. Furthermore, the NRC does not believe that eliminating the telephone recording will adversely affect the ability of the public to find out whether meetings have been changed or canceled. The NRC plans to retain the telephone number, with a new recording that refers the public to the NRC Web site and the toll-free telephone number of the PDR. For people who cannot access the NRC Web site, assistance on scheduled NRC meetings will be available through NRC staff at the PDR, by calling toll-free 1-800-397-4209.

The NRC does not distribute a summary compilation of meeting notices in the Weekly Compilation of Press Releases; therefore, that provision in Section D has been eliminated. Also, because the public can gain access to the NRC Web site using a computer at the PDR, the proposed revision no longer requires that paper copies of meeting notices be posted at the PDR. Specific comments regarding the discontinuation of announcing staff public meetings through the electronic bulletin board and telephone recording and through the weekly compilation of press releases and posting in the NRC's PDR are requested.

This policy statement would also be revised to state that staff meetings will be noticed as soon as the NRC staff is certain that a meeting will be held and that firm arrangements have been made, but generally no fewer than 10 calendar days before the meeting. Under the current policy, the NRC staff is instructed to provide a notice to the public meeting notice coordinator at least 10 days in advance of the date of the meeting, with certain exceptions. The goal of that practice was to ensure that the subsequent administrative processing of the notice for public notification would result in the public having at least a one-week notice of the open staff meeting. However, the current NRC guidance for this policy, Management Directive 3.5, “Public Attendance at Certain Meetings Involving the NRC Staff”, states that “[m]eetings open to the public should normally be announced to the public [emphasis added] and to the Commission at least 10 calendar days in advance of the date of the meeting. * * * The change to the policy would specify that the public can expect to receive notification of a staff meeting open to the public via the NRC Web site 10 calendar days in advance. The change will bring the policy statement into line with the Management Directive.

Experience has also shown that sometimes a staff meeting that is going to be open to the public needs to be scheduled quickly, and thus time is not available for the public to receive notice at least 10 calendar days in advance of the meeting. In these cases where an exception to the 10 calendar day policy must be made, the proposed change states that the staff will try to give notice as promptly as possible.

The current policy also provides for such exceptions, but the proposed policy would tie the exceptions to the NRC's strategic plan performance goals. The current draft of the strategic plan includes performance goals to: (1) Maintain safety; (2) increase public confidence; (3) reduce unnecessary regulatory burden; and (4) make NRC activities and decisions more effective, efficient and realistic. When the final version of the strategic plan is available, the Commission will consider whether the performance goals in the plan necessitate additional changes to NRC's policy of opening staff meetings to the public.

With respect to the third and fourth draft performance goals noted above, the Commission anticipates that they would be used sparingly and only when circumstances would not reasonably permit the 10 calendar-day notice. Comment is explicitly requested to identify circumstances in which these performance goals may justify an exception to the 10 calendar-day notice period.

To explain how these performance goals would be used to evaluate whether exceptions should be made to the 10 calendar-day notice period, the following examples are given. To maintain safety, it may be necessary to hold a meeting called on short notice to resolve a licensee safety issue. To increase public confidence, the NRC would hold a meeting as soon as is practical for a critical licensee safety issue requiring immediate attention even if the meeting notice period was less than 10 calendar days. To reduce unnecessary regulatory burden, it may be necessary for the staff to interact with an applicant for a license amendment frequently and on short notice in order to meet aggressive licensing schedules for high-priority reviews. The meeting notice would indicate that meetings will be held on the application for the stated period of time and that specifics on individual meetings will be provided with as much notice as possible. As shown in the three examples, the staff may have to provide less than the 10 calendar-day notice to make activities and decisions more effective, efficient and realistic for aggressive licensing schedules and unforeseen circumstances that require timely response.

Also, the policy is revised to eliminate the current practice of only posting meetings scheduled within 60 days. This restriction was placed in the current policy because of limited computer storage capacity available when the Public Meeting Notice System was designed in the early 1990s.

The Commission is requesting comments on the proposed discontinuation of providing notice of staff meetings open to the public through the electronic bulletin board and telephone recording as well as through the Weekly Compilation of Press Releases and posting in the NRC's Public Document Room.

The Commission will not finalize revisions to the Policy Statement or discontinue its current methods of informing the public of open staff meetings until any public comments have been evaluated as to whether changes in the proposed course are warranted.

Accordingly, the Commission is proposing to revise Section D of the Commission's Policy Statement on Staff Meetings Open to the Public, to read as follows:

Notice to the Public

1. Meeting announcement information is to be provided to the public as soon as the staff is certain that a meeting will be held and firm date, time, and facility arrangements have been made, but generally no fewer than 10 calendar days before the meeting. Where a meeting must be scheduled but cannot be announced 10 calendar days in advance, the staff will provide as much advance notice as possible. Public notice of meetings will be made via the Internet from the NRC Web site at ­ http://www.nrc.gov. Meeting notices, changes to scheduled meetings, and cancellations will be updated on the NRC Web site each Federal work day, as appropriate. Information regarding public meetings can be obtained from the Public Document Room by calling toll-free at 1-800-397-4209.

2. Meeting announcements will include the date, time, and location of the meeting, as well as its purpose, the NRC office(s) and outside participant(s) in attendance, and the name and telephone number of the NRC contact for the meeting.

Dated at Rockville, MD, this 19th day of January, 2000.
For the Nuclear Regulatory Commission.
Annette L. Vietti-Cook,
Secretary of the Commission.

[FR Doc. 00-1730 Filed 1-24-00; 8:45 am]

BILLING CODE 7590-01-P